NATIONAL CAPITAL PLANNING COMMISSION

Public Comment and Public Meeting on Draft Revisions to the Foreign Missions and International Organizations Element of the Comprehensive Plan for the National Capital: Federal Elements

AGENCY: National Capital Planning Commission.

ACTION: Notice of public comment period and public meeting.

SUMMARY: The National Capital Planning Commission (NCPC), the Planning Commission for the Federal Government within the National Capital Region, intends to release for public comment draft revisions to the Foreign Missions and International Organizations Element of the Comprehensive Plan for the National Capital: Federal Elements. The Comprehensive Plan for the National Capital: Federal Elements addresses matters relating to Federal Properties and Federal Interests in the National Capital Region, and provides a decision-making framework for actions the NCPC takes on specific plans and proposals submitted by Federal government agencies for the NCPC review required by law. The Foreign Missions and International Organizations Element articulates policies that guide federal actions on the location of diplomatic and international activities in Washington, DC to ensure chanceries, ambassadors' residences, and international organizations are located in a manner that is appropriate to the status and dignity of these activities, while enhancing Washington as one of the world's great capitals. The draft revised Foreign Missions and International Organizations Element will be available online at http://www.ncpc.gov/compplan by Monday, May 6, 2013. Printed copies are available upon request from the contact person noted below.

DATES AND TIME: The public comment period begins on the date of publication of this notice and closes on Friday, July 5, 2013. A public meeting to discuss the draft revisions to the Foreign Missions and International Organizations Element will be held on Tuesday, June 11, 2013 from 6:30 p.m.-8:30 p.m.

ADDRESSES: Mail written comments or hand deliver comments on the draft revisions to Comprehensive Plan Public Comment, National Capital Planning Commission, 401 9th Street NW., Suite 500, Washington, DC 20004. The public meeting will be held at 401 9th Street NW., North Lobby, Suite 500, Washington, DC 20004.

FOR FURTHER INFORMATION CONTACT: Angela Mar at (202) 482-7232 or angela.mar@ncpc.gov. Please confirm meeting attendance with Ms. Mar or as noted below.

SUPPLEMENTARY INFORMATION:

Electronic Access and Filing Addresses

You may submit comments electronically at the public comment portal at http://www.ncpc.gov/compplan.

Authority: (40 U.S.C. 8721(e)(2)).

Dated: April 24, 2013.
Anne R. Schuyler,
General Counsel.

[FR Doc. 2013-10269 Filed 5-3-13; 8:45 am]

BILLING CODE 7520-01-P